DEPARTMENT OF HOMELAND SECURITY

Coast Guard

[USCG-2008-0224]

Announcement of Public Meeting Regarding the Naheola Railroad Bridge Across the Black Warrior-Tombigbee Waterway, Mile 173.5, Near Pennington, AL

AGENCY: Coast Guard, DHS.

ACTION: Notice of public meeting.

SUMMARY: The Coast Guard will hold a public meeting for citizens to provide oral comments relating to the alteration of the Naheola Railroad Bridge near Pennington, Alabama. The meeting will allow interested persons to present comments and information about the bridge being unreasonably obstructive to navigation. The meeting will be open to the public.

DATES: The meeting will be held on May 21, 2008, from 1 p.m. to 5 p.m. If you would like to submit written materials as part of the meeting record or request to make an oral presentation at the meeting please provide your information to the District Bridge Administrator no later than May 16, 2008. If you wish to add comments directly to the Docket, they must reach the Coast Guard no later than May 16, 2008.

ADDRESSES: The meeting will be held at the Alabama's Delta Resource Center, 30945 Five Rivers Boulevard, Spanish Fort, Alabama 36527. Send written material, requests to make oral presentation or comments to Commander (dwb), Eighth Coast Guard District, Bridge Branch, 1222 Spruce Street, Room 2.107F, Saint Louis, Missouri 63103.

All other comments and materials may be submitted under the Coast Guard docket number USCG-2008-0224 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: If you have questions regarding this notice call Mr. Roger K. Wiebusch, Bridge Administrator, telephone (314) 269-2378. If you have questions on viewing or submitting material to the docket, call Renee V. Wright, Program Manager, Docket Operations, telephone 202-366-9826.

SUPPLEMENTARY INFORMATION:

Public Participation and Request for Comments

We encourage you to participate in this action by submitting comments and related materials. All comments received will be posted, without change, to http://www.regulations.gov and will include any personal information you have provided. We have an agreement with the Department of Transportation (DOT) to use the Docket Management Facility. Please see DOT's “Privacy Act” paragraph below.

Submitting Comments

If you submit a comment, please include the docket number for this notice (USCG-2008-0224), indicate the specific section of this document to which each comment applies, and give the reason for each comment. We recommend that you include your name and a mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing Comments and Documents

To view comments, as well as documents mentioned in this notice as being available in the docket, go to http://www.regulations.gov at any time, click on “Search for Dockets,” and enter the docket number for this notice (USCG-2008-0224) in the Docket ID box, and click enter. You may also visit the Docket Management Facility in Room W12-140 on the Ground Floor of the DOT West Building, 1200 New Jersey Avenue, SE., Washington, DC 20590, between 9 a.m. and 5 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Background

Complaints have been received alleging that the bridge is unreasonably obstructive to navigation. Information available to the Coast Guard indicates numerous bridge allisions have occurred between 1995 and 2007. The navigation opening of the bridge is 150 feet and causes significant delays to commercial water traffic. Mariners transit the bridge under a non-navigation span when possible. During periods of high water mariners often double trip the bridge, which adds many hours to the bridge transit. Based on the comments received at the public meeting, the bridge may be found to be unreasonably obstructive to navigation. Such a finding may require relocating and increasing the horizontal clearance of the railroad bridge to meet the reasonable needs of navigation.

Procedural

The hearing is open to the public. Attendees at the meeting, who wish to present testimony and have not previously made a request to do so, will follow those having submitted a request, as time permits. If a large number of persons wish to speak, the presiding officer may limit the time allotted to each speaker. Conversely, the public meeting may end early if all present wishing to speak have done so.

Information on Services for Individuals With Disabilities

For information on facilities or services for individuals with disabilities or to request special assistance at the meeting, contact the individual listed in the FOR FURTHER INFORMATION CONTACT section as soon as possible.

Dated: March 20, 2008.
Roger K. Wiebusch,
Bridge Administrator.

[FR Doc. E8-9008 Filed 4-24-08; 8:45 am]

BILLING CODE 4910-15-P